SOCIAL SECURITY ADMINISTRATION

Privacy Act of 1974, as Amended; Proposed System of Records and Routine Use Disclosures

AGENCY: Social Security Administration (SSA).

ACTION: Proposed System of Records and Routine Uses.

SUMMARY: In accordance with the Privacy Act (5 U.S.C. 552a(e)(4) and (e)(11)) we are issuing public notice of our intent to establish a system of records and routine use disclosures. The system of records is the Economic Recovery List (ERL) Database (60-0372), hereinafter referred to as the ERL Database. We will use information covered by the system of records to:

• Determine persons eligible for the one-time payment under provisions of the American Recovery and Reinvestment Act of 2009 (ARRA) or any similar subsequent payments authorized under the ARRA or other legislation;

• Prevent duplicate payments to those who qualify under more than one criterion;

• Record post-payment actions for Title II and Title XVI of the Social Security Act Economic Recovery Payments (ERP); and

• Provide management information (MI) for the Title II and Title XVI ERPs.

We discuss the system of records and routine use disclosures in the Supplementary Information section below. We invite public comments on this proposal.

DATES: We filed a report of the system of records and routine use disclosures with the Chairman of the Senate Committee on Homeland Security and Governmental Affairs, the Chairman of the House Committee on Oversight and Government Reform, and the Administrator, Office of Information and Regulatory Affairs, Office of Management and Budget (OMB) on June 30, 2010. The system of records and routine uses will become effective on August 8, 2010, unless we receive comments before that date that would result in a contrary determination.

ADDRESSES: Interested persons may comment on this publication by writing to the Executive Director, Office of Privacy and Disclosure, Office of the General Counsel, Social Security Administration, 3-A-6 Operations Building, 6401 Security Boulevard, Baltimore, Maryland 21235-6401, or through the Federal e-Rulemaking Portal at http://www.regulations.gov. All comments we receive will be available for public inspection at the above address and will be posted to http://www.regulations.gov.

FOR FURTHER INFORMATION CONTACT: Matthew Olsen, Senior Analyst, Disclosure Policy Development and Services Division I, Office of Privacy and Disclosure, Office of the General Counsel, Social Security Administration, 3-A-6 Operations Building, 6401 Security Boulevard, Baltimore, Maryland 21235-6401, telephone: (410) 965-6213, e-mail: matthew.olsen@ssa.gov.

SUPPLEMENTARY INFORMATION:

I. Background and Purpose of the ERL Database System of Records

A. General Background

A provision of the ARRA of 2009 authorizes a one-time ERP of $250 to persons receiving benefits under Title II or Title XVI of the Social Security Act, as well as persons receiving benefits from the Railroad Retirement Board (RRB) or the Department of Veterans Affairs, Veterans Benefits Administration (VBA). Persons entitled under multiple programs may receive only one payment.

The ERL Database will create a list of persons eligible for an ERP under Title II or Title XVI, eliminating any duplicate payments. We will then receive data from RRB on potential persons eligible in their system, and match these to the ERL Database based on the Clients' Own Social Security Number (COSSN) file.

Based on the match of the RRB-eligible COSSN file, we will identify the person as eligible for a unique RRB payment, or as duplicating a payment made by either Title II or Title XVI. We will update the ERL Database identifying the additional subset of those receiving RRB benefits.

We will use the updated ERL Database in subsequent matching processes for persons eligible from the VBA. We will send a one-for-one response back to the RRB identifying each RRB eligible person as already paid by Title II/Title XVI, or a person eligible for whom RRB should submit to the Department of the Treasury (DOT), for payment. We will repeat this process with data provided by the VBA.

The ERL Database will contain a record for each Title II, Title XVI, RRB, and VBA person eligible for the ERP, including the agency under which each person qualified. SSA, RRB, and VBA will each submit its own subset(s) of persons eligible to DOT to issue the ERP. If, between when a person is determined eligible and issuance of the payment that person has died, the ERL Database may contain information identifying a reissuance was made in care of the estate of the deceased.

B. Collection and Maintenance of the Data Covered by the ERL Database System of Records

We will collect and maintain information that will be housed in the ERL Database from existing internal systems that maintain information on persons receiving benefits under Title II and Title XVI of the Social Security Act. We will add additional information from RRB and VBA systems which similarly maintain information on persons receiving those respective benefits. We will maintain the information in this system of records in electronic format.

We will collect information for Title II and Title XVI beneficiaries such as: SSN; claim account number; beneficiary identification code; reason for non-payment; and post-payment information such as DOT Offset Payment (TOP), returned payment, non-receipt claims, reclamation claims, limited payability data, and the name of an executor or other person qualified to receive payment, tax identification number, and mailing address for reissuance of payment to the estate of the deceased if, between the determination that a person is eligible and the issuance of payment that person has died. For payments made by RRB or VBA, we will collect the SSN in the system. For all payments we will collect in the system the agency that qualified the person to receive the payment. We will retrieve information covered by the system of records by using the beneficiary's SSN, claim account number, or beneficiary identification code. As a result, the ERL Database information collection is a system of records as defined by the Privacy Act.

II. Routine Use Disclosures of Data Covered by the ERL Database System of Records

A. Routine Use Disclosures

We propose to establish the following routine uses of information that will be covered by the ERL Database system of records.

1. To the Department of the Treasury (DOT) To Prepare Checks or Payments It Will Send to Those Persons Eligible for the One-Time Payment, or Similar Payments Subsequently Authorized Under the ARRA or Other Legislation

We will disclose information under this routine use to allow DOT to prepare the checks and payments to those persons receiving an ERP.

2. To the DOT To Allow the Department To Recover Debts to the Federal Government Under the Treasury Offset Program

We will disclose information under this routine use to allow for the recovery of debt to the Federal government under the Treasury Offset Program, as mandated in the ARRA

3. To the Internal Revenue Service (IRS) To Allow for the Administration of the Make Work Pay Credit

We will disclose information under this routine use to the IRS to allow the Service to administer the Make Work Pay credit, specifically to ensure proper offset of the credit when a person also receives an ERP, as mandated by the ARRA

4. To the Office of the President in Response to an Inquiry From That Office Made at the Request of the Subject of the Record or a Third Party on That Person's Behalf

We will disclose information under this routine use only when the Office of the President makes an inquiry relating to information contained in this system of records and indicates that it is requesting the record on behalf of the person

5. To a Congressional Office in Response to an Inquiry From That Office Made at the Request of the Subject of a Record or a Third Party on That Person's Behalf

We will disclose information under this routine use only when a member of Congress, or member of his or her staff, makes an inquiry relating to information contained in this system of records and indicates that it is requesting the record on behalf of the person.

6. To the Department of Justice (DOJ), a Court, Other Tribunal, or Another Party Before Such Court or Tribunal When:

(a) The agency or any of our components; or

(b) Any agency employee in his or her official capacity; or

(c) Any agency employee in his or her individual capacity when DOJ (or the agency when we are authorized to do so) has agreed to represent the employee; or

(d) The United States or any agency thereof when we determine that the litigation is likely to affect our operations or any of its components, is party to the litigation or has an interest in such litigation, and we determine that the use of such records by DOJ, a court, other tribunal, or another party before such court or tribunal is relevant and necessary to the litigation. In each case, however, we must determine that such disclosure is compatible with the purpose for which we collected the records.

We will disclose information under this routine use only as necessary to enable DOJ to defend us, our components, or our employees in litigation when the use of information covered by this system of records is relevant and necessary to the litigation and compatible with the purpose of the information collection. We will also disclose information to ensure that courts, other tribunals, and parties before such courts or tribunals, have appropriate information when relevant and necessary.

7. To Contractors and Other Federal Agencies, as Necessary, To Assist Us in Efficiently Administering Our Programs

We will disclose information under this routine use only in situations where we enter into a contractual agreement or similar agreement with a third party to assist in accomplishing an agency function relating to information covered by the ERL Database system of records.

8. To Student Volunteers, Persons Working Under a Personal Services Contract, and Others Who Are Not Technically Federal Employees, When They Are Performing Work for Us as Authorized by Law, and They Need Access to Information in Our Records in order To Perform Their Assigned Agency Duties

We will disclose information under this routine use only when we use the services of student volunteers and participants in certain educational, training, employment, and community service programs when they need access to information covered by this system of records to perform their assigned agency duties.

9. To the Railroad Retirement Board (RRB) and the Department of Veterans Affairs, Veterans Benefits Administration (VBA), To Identify Persons Who Qualify for a Payment as a Beneficiary From More Than One Agency

We will disclose information under this routine use to the RRB and VBA so that they have a list of those persons eligible for a payment, and who have not already qualified as a beneficiary of another agency's programs.

10. To the Appropriate Federal, State, and Local Agencies, Entities, and Persons When:

(a) We suspect or confirm that the security or confidentiality of information in this system of records has been compromised;

(b) We determine that as a result of the suspected or confirmed compromise there is a risk of harm to economic or property interests, risk of identity theft or fraud, or harm to the security or integrity of this system or our other systems or programs that rely upon the compromised information; and

(c) We determine that disclosing the information to such agencies, entities, and persons is necessary to assist in our efforts to respond to the suspected or confirmed compromise and prevent, minimize, or remedy such harm. We will use this routine use to respond only to those incidents involving an unintentional release of our records.

We will disclose information under this routine use specifically in connection with response and remediation efforts in the event of an unintentional release of agency information, otherwise known as a “data security breach.” This routine use will protect the interests of the people whose information is at risk by allowing us to take appropriate steps to facilitate a timely and effective response to a data breach. The routine use will also help us improve our ability to prevent, minimize, or remedy any harm that may result from a compromise of data covered by this system of records.

11. To Federal, State, and Local Law Enforcement Agencies and Private Security Contractors, as Appropriate, Information Necessary:

(a) To enable them to ensure the safety of our employees and customers, the security of our workplace, and the operation of our facilities; or

(b) To assist investigations or prosecutions with respect to activities that affect such safety and security or activities that disrupt the operation of our facilities.

We will disclose information under this routine use to law enforcement agencies and private security contractors when information is needed to respond to, investigate, or prevent activities that jeopardize the security and safety of the public, employees, or workplaces, or that otherwise disrupt the operation of our facilities. Information will also be disclosed to assist in the prosecution of persons charged with violating a Federal, State, or local law in connection with such activities.

12. To the General Services Administration (GSA) and the National Archives and Records Administration (NARA) Under 44 U.S.C. 2904 and 2906, as Amended by the NARA Act, Information That Is Not Restricted From Disclosure by Federal Law, for Their Use in Conducting Records Management Studies

We will disclose information under this routine use only when it is necessary for GSA and NARA to have access to the information covered by this system of records. The administrator of GSA and the Archivist of NARA are authorized by Title 44 U.S.C. 2904, as amended, to promulgate standards, procedures, and guidelines regarding records management and to conduct records management studies. Title 44 U.S.C. 2906, as amended, provides that GSA and NARA are authorized to inspect Federal agencies' records for records management purposed and that agencies are to cooperate with GSA and NARA.

B. Compatibility of Proposed Routine Uses

We can disclose information when the disclosure is required by law (20 CFR 401.120). We can also disclose information when the purpose is compatible with the purpose for which we collect the information and the disclosure is supported by a published routine use (20 CFR 401.150). The disclosures under our routine uses (numbers one through twelve) will ensure that we efficiently perform our functions relating to the purpose and administration of the ERL Database system of records. Federal law requires the disclosures that we make under routine use numbers ten and eleven. We will disclose information under these two routine uses to the extent another Federal law does not prohibit the disclosure. For example, the Internal Revenue Code generally prohibits us from disclosing tax return information that we receive to maintain a person's earnings records. Therefore, all routine uses are appropriate and meet the relevant statutory and regulatory criteria.

III. Records Storage Medium and Safeguards for the Information Covered by the ERL Database System of Records

We will maintain information in the ERL Database system of records in electronic form. We will safeguard the security of the electronic information covered by the ERL Database system of records by requiring the use of access codes to enter the computer system that will house the data. We will permit only our authorized employees and contractors who require the information to perform their official duties to access the information covered by the ERL Database system of records.

We annually provide all our employees and contractors with appropriate security awareness and training that includes reminders about the need to protect personally identifiable information and the criminal penalties that apply to unauthorized access to, or disclosure of, personally identifiable information. See 5 U.S.C. 552a(i)(1). Furthermore, employees and contractors with access to databases maintaining personally identifiable information must sign a sanction document annually, acknowledging their accountability for inappropriately accessing or disclosing such information.

IV. Effects of the ERL Database System of Records on the Rights of Individuals

We will maintain information in the ERL Database only that is necessary to carry out our official functions under the Social Security Act and other applicable Federal statutes. We will use security measures that protect access to, and preclude unauthorized disclosure of, records in this system of records. Additionally, we will adhere to all statutory requirements, including those under the Social Security Act and the Privacy Act, in carrying out our responsibilities. We employ safeguards to protect all personal information in our possession as well as the confidentiality of the information. We will disclose information under the routine uses discussed above only as necessary to accomplish the stated purposes. Therefore, we do not anticipate that this system of records and its routine use disclosures will have any unwarranted adverse effect on the privacy or other rights of persons.

Dated: June 30, 2010.
Michael J. Astrue,
Commissioner.

SYSTEM NUMBER: 60-0372

SYSTEM NAME:

Economic Recovery List (ERL) Database, Social Security Administration.

SYSTEM CLASSIFICATION:

None.

SYSTEM LOCATION:

Social Security Administration, Office of Retirement and Survivors Insurance Systems, 6401 Security Boulevard, Baltimore, Maryland 21235.

CATEGORIES OF INDIVIDUALS COVERED BY THE SYSTEM:

Persons receiving benefits under Title II and XVI of the Social Security Act, as well as those covered by the Railroad Retirement Board (RRB) and the Department of Veterans Affairs, Veterans Benefits Administration (VBA). Executors or other persons qualified to receive a decedent's payment in the event that, between when a person is determined eligible and issuance of the payment, that person has died.

CATEGORIES OF RECORDS IN THE SYSTEM:

This system will contain information regarding the payees and payments made under provisions of the American Recovery and Reinvestment Act of 2009 (ARRA) or other similar legislation. For Title II and Title XVI beneficiaries, this system will contain the person's Social Security number (SSN), claim account number, beneficiary identification code, reason for non-payment, and post-payment information such as the Treasury Offset Payment (TOP), returned payment, non-receipt claims, reclamation claims, limited payability data, and the name of an executor or other person qualified to receive payment, tax identification number, and mailing address for reissuance of payment to the estate of the deceased if, between the determination that a person is eligible and the issuance of payment that person has died. For payments made by RRB and VBA, the system will contain the person's SSN. For all payments the system will contain the agency that qualified the person to receive the payment.

AUTHORITY FOR MAINTENANCE OF THE SYSTEM:

Title II, Section 2201, Subtitle C of the ARRA.

PURPOSE(S):

We will use data in this system to determine persons eligible for a one-time payment under the ARRA, or any subsequent payments authorized under an amendment to or legislation similar to the ARRA, and to prevent duplicate payments to those who qualify under more than one criterion.

ROUTINE USES OF RECORDS MAINTAINED IN THE SYSTEM, INCLUDING CATEGORIES OF USERS AND THE PURPOSES OF SUCH USES:

Routine use disclosures are as indicated below.

1. To the Department of the Treasury (DOT) to prepare checks or payments it will send to those persons eligible for the one-time payment, or similar payments subsequently authorized under the ARRA or other legislation.

2. To the DOT to allow the Department to recover debts to the Federal government under the Treasury Offset Program.

3. To the Internal Revenue Service to allow for administration of the Make Work Pay credit.

4. To the Office of the President in response to an inquiry from that office made at the request of the subject of the record or a third party on that person's behalf.

5. To a congressional office in response to an inquiry from that office made at the request of the subject of a record or a third party on that person's behalf.

6. To the Department of Justice (DOJ), a court, other tribunal, or another party before such court or tribunal when:

(a) The agency or any of our components; or

(b) Any agency employee in his or her official capacity; or

(c) Any agency employee in his or her individual capacity when DOJ (or the agency when we are authorized to do so) has agreed to represent the employee; or

(d) The United States or any agency thereof when we determine that the litigation is likely to affect our operations or any of its components, is party to the litigation or has an interest in such litigation, and we determine that the use of such records by DOJ, a court, other tribunal, or another party before such court or tribunal is relevant and necessary to the litigation. In each case, however, we must determine that such disclosure is compatible with the purpose for which we collected the records.

7. To our contractors and other Federal agencies, as necessary, to assist us in efficiently administering our programs.

8. To student volunteers, persons working under a personal services contract, and others who are not technically Federal employees, when they are performing work for us as authorized by law, and they need access to information in our records in order to perform their assigned agency duties.

9. To the Railroad Retirement Board and Department of Veterans Affairs, Veterans Benefits Administration, to identify persons who qualify for a payment as a beneficiary from more than one agency.

10. To the appropriate Federal, State, and local agencies, entities, and persons when:

(a) We suspect or confirm that the security or confidentiality of information in this system of records has been compromised;

(b) We determine that as a result of the suspected or confirmed compromise there is a risk of harm to economic or property interests, risk of identity theft or fraud, or harm to the security or integrity of this system or our other systems or programs that rely upon the compromised information; and

(c) We determine that disclosing the information to such agencies, entities, and persons is necessary to assist in our efforts to respond to the suspected or confirmed compromise and prevent, minimize, or remedy such harm. We will use this routine use to respond only to those incidents involving an unintentional release of our records.

11. To Federal, State, and local law enforcement agencies and private security contractors, as appropriate, information necessary:

a. To enable them to ensure the safety of our employees and customers, the security of our workplace, and the operation of our facilities; or

b. To assist investigations or prosecutions with respect to activities that affect such safety, security, or activities that disrupt the operation of our facilities.

12. To the General Services Administration and the National Archives and Records Administration (NARA) under 44 U.S.C. 2904 and 2906, as amended by the NARA Act, information that is not restricted from disclosure by Federal law for their use in conducting records management studies.

POLICIES AND PRACTICES FOR STORING, RETRIEVING, ACCESSING, RETAINING, AND DISPOSING OF RECORDS IN THE SYSTEM:

STORAGE:

We maintain and store records in this system in electronic form.

RETRIEVABILITY:

We retrieve records by beneficiary Social Security number, claim account number, or beneficiary identification code.

SAFEGUARDS:

We retain electronic files with personal identifiers in secure storage areas accessible only to our authorized employees and contractors who have a need for the information when performing their official duties. Security measures include the use of access codes (personal identification number (PIN) and password) to enter our computer systems that house the data.

We annually provide all our employees and contractors with appropriate security awareness and training that includes reminders about the need to protect personally identifiable information and the criminal penalties that apply to unauthorized access to, or disclosure of, personally identifiable information (5 U.S.C. 552a(i)(l)). Furthermore, employees and contractors with access to databases maintaining personally identifiable information must sign a sanction document annually, acknowledging their accountability for inappropriately accessing or disclosing such information.

RETENTION AND DISPOSAL:

We maintain records in SSA headquarters within the Office of Retirement and Survivors Insurance Systems. We will maintain these records for seven years, pending application of an appropriate General Records Schedule, or approval by NARA, of the proposed retention.

SYSTEM MANAGER(S) AND ADDRESS:

Project Manager, Office of Retirement and Survivors Insurance Systems, Social Security Administration, 6401 Security Boulevard, Baltimore, Maryland 21235-6401.

NOTIFICATION PROCEDURES:

Persons can determine if this system contains a record about them by writing to the system manager at the above address and providing their name, SSN, or other information in this system of records that will identify them. Persons requesting notification by mail must include a notarized statement to us to verify their identity or must certify in the request that they are the person they claim to be and that they understand that the knowing and willful request for, or acquisition of, a record pertaining to another person under false pretenses is a criminal offense.

Persons requesting notification of records in person must provide the same information, as well as provide an identity document, preferably with a photograph, such as a driver's license. Persons lacking identification documents sufficient to establish their identity must certify in writing that they are the person they claim to be and that they understand that the knowing and willful request for, or acquisition of, a record pertaining to another person under false pretenses is a criminal offense.

Persons requesting notification by telephone must verify their identity by providing identifying information that parallels the information in the record about which they are requesting notification. If we determine that the identifying information the person provides by telephone is insufficient, we will require the person to submit a request in writing or in person. If a person requests information by telephone on behalf of another person, the subject person must be on the telephone with the requesting person and us in the same phone call. We will establish the subject person's identity (his or her name, SSN, address, date of birth, and place of birth, along with one other piece of information such as mother's maiden name) and ask for his or her consent to provide information to the requesting person. These procedures are in accordance with our regulations at 20 CFR 401.40 and 401.45.

RECORD ACCESS PROCEDURES:

Same as notification procedures. Persons also should reasonably specify the record contents they are seeking. These procedures are in accordance with our regulations (20 CFR 401.40(c)).

CONTESTING RECORD PROCEDURES:

Same as notification procedures. Persons also should reasonably identify the record, specify the information they are contesting, and state the corrective action sought and the reasons for the correction with supporting justification showing how the record is incomplete, untimely, inaccurate, or irrelevant. These procedures are in accordance with our regulations (20 CFR 401.65(a)).

RECORD SOURCE CATEGORIES:

We obtain data covered by this system of records from information in our existing systems of records (e.g., the Master Beneficiary Record, 60-0090 and Supplemental Security Income Record and Special Veterans Benefits, 60-0103), as well as from systems of records of the Railroad Retirement Board and Veterans Benefits Administration. We may also obtain data from an executor or other person qualified to receive a decedent's payment in the event that, between when a person is determined eligible and the issuance of payment, that person has died.

SYSTEMS EXEMPTED FROM CERTAIN PROVISIONS OF THE PRIVACY ACT:

None.

[FR Doc. 2010-17021 Filed 7-12-10; 8:45 am]

BILLING CODE P